DEPARTMENT OF HEALTH AND HUMAN SERVICES

Health Care Financing Administration

[HCFA-1132-N]

Medicare Program; May 23, 2000, Meeting of the Competitive Pricing Advisory Committee

AGENCY: Health Care Financing Administration (HCFA), HHS.

ACTION: Notice of meeting.

SUMMARY: In accordance with section 10(a) of the Federal Advisory Committee Act, this notice announces a meeting of the Competitive Pricing Advisory Committee (the CPAC) on May 23, 2000. The Balanced Budget Act of 1997 (BBA) requires the Secretary of the Department of Health and Human Services (the Secretary) to establish a demonstration project under which payments to Medicare+Choice organizations in designated areas are determined in accordance with a competitive pricing methodology. The BBA requires the Secretary to create the CPAC to make recommendations on demonstration area designation and appropriate research designs for the project. The CPAC meetings are open to the public.

DATES: The meeting is scheduled for May 23, 2000, from 9 a.m. until 1 p.m., e.d.s.t.

ADDRESSES: The meeting will be held at the Double Tree Hotel Park Terrace, 1515 Rhode Island Avenue, NW., Washington, D.C. 20005.

FOR FURTHER INFORMATION CONTACT: Sharon Arnold, Ph.D., Executive Director, Competitive Pricing Advisory Committee, Health Care Financing Administration, 7500 Security Boulevard C4-14-17, Baltimore, Maryland 21244-1850, (410) 786-6451. Please refer to the HCFA Advisory Committees Information Line (1-877-449-5659 toll free)/(410-786-9379 local) or the Internet (http://www/hcfa.gov/fac) for additional information and updates on committee activities.

SUPPLEMENTARY INFORMATION: Section 4011 of the Balanced Budget Act of 1997 (BBA), Public Law 105-33, requires the Secretary of the Department of Health and Human Services (the Secretary) to establish a demonstration project under which payments to Medicare+Choice organizations in designated areas are determined in accordance with a competitive pricing methodology. Section 4012(a) of the BBA requires the Secretary to appoint a Competitive Pricing Advisory Committee (the CPAC) to meet periodically and make recommendations to the Secretary concerning the designation of areas for inclusion in the project and appropriate research design for implementing the project. The CPAC has previously met on May 7, 1998, June 24 and 25, 1998, September 23 and 24, 1998, October 28, 1998, January 6, 1999, May 13, 1999, July 22, 1999, September 16, 1999, October 29, 1999, and January 12, 2000.

The CPAC consists of 15 individuals who are independent actuaries; experts in competitive pricing and the administration of the Federal Employees Health Benefit Program; and representatives of health plans, insurers, employers, unions, and beneficiaries. The CPAC members are: James Cubbin, Executive Director, General Motors Health Care Initiative; Robert Berenson, M.D., Director, Center for Health Plans and Providers, HCFA; John Bertko, Actuary Principal, Humana Inc.; David Durenberger, Vice President, Public Policy Partners; Gary Goldstein, M.D., Healthcare Consultant; Samuel Havens, Healthcare Consultant; Margaret Jordan, Executive Vice President, Texas Health Resources; Chip Kahn, President, The Health Insurance Association of America; Cleve Killingsworth, President and CEO, Health Alliance Plan; Nancy Kichak, Director, Office of Actuaries, Office of Personnel Management; Len Nichols, Principal Research Associate, The Urban Institute; Robert Reischauer, President, The Urban Institute; John Rother, Director, Legislation and Public Policy, American Association of Retired Persons; Andrew Stern, President, Service Employees International Union, AFL-CIO; and Jay Wolfson, Director, The Florida Information Center, University of South Florida. The Chairperson is James Cubbin and the Co-Chairperson is Robert Berenson, M.D. In accordance with section 4012(a)(5) of the BBA, the CPAC will terminate on December 31, 2004.

The agenda for the May 23, 2000, meeting will include a discussion of the components of a Report to Congress being prepared by the CPAC. Section 533 of the Medicare, Medicaid, and State Child Health Insurance Program (SCHIP) Balanced Budget Refinement Act of 1999, Public Law 106-113, revised section 4011 of the BBA to require the CPAC to submit a report on the following topics:

• Incorporation of original Medicare fee-for-service into the demonstration.

• Requirements of quality activities under the demonstration.

• Inclusion of a rural area in the demonstration.

sbull Requirements of a benefit structure under the demonstration.

Individuals or organizations that wish to make 5-minute oral presentations on the agenda issues should contact the Executive Director, by 12 noon, May 18, 2000, to be scheduled. The number of oral presentations may be limited by the time available. A written copy of the oral remarks should be submitted to the Executive Director, no later than 12 noon, May 22, 2000. Anyone who is not scheduled to speak, may submit written comments to the Executive Director, by 12 noon, May 22, 2000.

The meeting is open to the public, but attendance is limited to the space available. Individuals requiring sign language interpretation for the hearing impaired or other special accommodation should contact the Executive Director at least 10 days before the meeting.

(Section 4012 of the Balanced Budget Act of 1997, Public Law 105-33 (42 U.S.C.1395w-23 note) and section 10(a) of Public Law 92-463 (5 U.S.C. App. 2, section 10(a))
(Catalog of Federal Domestic Assistance Program No. 93.773, Medicare—Hospital Insurance; and Program No. 93.774, Medicare—Supplementary Medical Insurance Program)
Dated: April 18, 2000.
Nancy-Ann Min DeParle,
Administrator, Health Care Financing Administration.

[FR Doc. 00-10555 Filed 4-27-00; 8:45 am]

BILLING CODE 4120-01-P